DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: National Marine Fisheries Service (NMFS) Observer Programs' Information That Can Be Gathered Only Through Questions.

OMB Control Number: None.

Form Number(s): None.

Type of Request: Regular submission.

Number of Respondents: 4,323.

Average Hours per Response: One hour and 20 minutes, including pre-deployment information, information gathered directly from captain/crew during trips, reimbursement requests and observer evaluations.

Burden Hours: 17,455.

Needs and Uses: NOAA's National Marine Fisheries Service (NMFS) deploys fishery observers on United States commercial fishing vessels and to fish processing plants in order to collect biological and economic data. NMFS has at least one observer program in each of its six Regions. These observer programs provide the only reliable or most effective method for obtaining information that is critical for the conservation and management of living marine resources. Observer programs primarily obtain information through direct observations by employees or agents of NMFS or through non-standardized oral communication in connection with such direct observations; and such collections are not generally subject to the Paperwork Reduction Act (PRA). However, observer programs also collect the following information that requires clearance under the PRA: (1) Standardized questions of fishing vessel captains/crew or fish processing plant managers/staff, which include gear and performance questions, safety questions, and trip costs, crew size and other economic questions; (2) questions asked by observer program staff/contractors to plan observer deployments; (3) forms that are completed by observers and that fishing vessel captains are asked to review and sign; (4) questionnaires to evaluate observer performance; (5) information used to ensure that the data for a specific trip are not provided to an individual (e.g., fisherman) who does not have authority to obtain that data under the confidentiality requirements of the Magnuson-Stevens Fishery Conservation and Management Act (MSA) and/or the Marine Mammal Protection Act (MMPA); and (6) information on reimbursement forms. NMFS has received PRA clearances for the second and fourth types of collections for some observer programs (OMB Control Numbers 0648-0423 and 0648-0202 for deployment questions, and 0648-0550 and 0648-0536 for observer evaluations); those burden hours are now included in this national, comprehensive PRA submission.

The information collected will be used to: (1) Monitor catch and bycatch; (2) understand the population status and trends of fish stocks and protected species, as well as the interactions between them; (3) determine the quantity and distribution of net benefits derived from living marine resources; (4) predict the biological, ecological, and economic impacts of existing management action and proposed management options; and (5) ensure that the observer programs can safely and efficiently collect the information required for the previous four uses.

In particular, these biological and economic data collection programs contribute to analyses required under the MSA, the Endangered Species Act (ESA), the MMPA, the National Environmental Policy Act (NEPA), the Regulatory Flexibility Act (RFA), Executive Order 12866 (EO 12866), as well as a variety of state statutes. The confidentiality of the data will be protected as required by law.

Affected Public: Business or other for-profit organizations.

Frequency: On occasion.

Respondent's Obligation: Some mandatory (e.g., vessel safety checks), most voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 28, 2009.
Gwellnar Banks,
Management Analyst, Office of the Chief Information Officer.

[FR Doc. E9-18376 Filed 7-31-09; 8:45 am]

BILLING CODE 3510-22-P